DEPARTMENT OF HEALTH AND HUMAN SERVICES

Health Resources and Services Administration

Health Center Program

AGENCY: Health Resources and Services Administration, HHS.

ACTION: Notice of class deviations from the requirements for competition and application period for the health center program.

SUMMARY: The Bureau of Primary Health Care (BPHC) is awarding funds to health centers transitioning to value-based models of care, improving the use of information in decision making, and increasing engagement in delivery system transformation.

SUPPLEMENTARY INFORMATION:

Intended Recipient of the Award: Approximately 1,380 Health Center Program award recipients.

Amount of Competitive Awards: Approximately $90 million will be awarded in FY 2016 through a one-time supplement.

Period of Supplemental Funding: Anticipated 12 month project period is September 1, 2016 through August 31, 2017.

CFDA Number: 93.224.

Authority: Section 330 of the Public Health Service Act, as amended (42 U.S.C. 254b, as amended).

Justification: Targeting the Nation's neediest populations and geographic areas, the Health Center Program supports more than 1,300 health centers that operate over 9,000 service delivery sites in every state, the District of Columbia, Puerto Rico, the Virgin Islands, and the Pacific Basin. Nearly 23 million patients received comprehensive, culturally competent, quality primary health care services through the Health Center Program award recipients in 2014.

The fiscal year (FY) 2016 Health Center Program Delivery System Health Information Investment (DSHII) funding will provide formula-based, one-time support for the purchase of health information technology (health IT) enhancements to accelerate health centers' transition to value-based models of care, improve efforts to share and use information to support better decisions, and increase engagement in delivery system transformation efforts. Grant funds will help health centers make strategic investments to enhance their health IT, implement new clinical and administrative workflows, develop new reports, and better prepare providers and staff to use health IT and data to achieve the quality, cost, and patient-centered goals of delivery system reforms. In addition, health centers that do not currently have a certified electronic health record (EHR) at all sites and in use by all providers must propose at a minimum to use DSHII funding to initiate and/or increase the number of sites and providers using a certified EHR. The investments will help health centers improve the quality and safety of services provided to the nation's most vulnerable populations.

FOR FURTHER INFORMATION CONTACT: Olivia Shockey, Expansion Division Director, Office of Policy and Program Development, Bureau of Primary Health Care, Health Resources and Services Administration at 301-443-9282 or oshockey@hrsa.gov.

Dated: July 18, 2016.
James Macrae,
Acting Administrator.

[FR Doc. 2016-17497 Filed 7-22-16; 8:45 am]

BILLING CODE 4165-15-P